DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before July 19, 2004.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW, Room 4102, Albuquerque, New Mexico. Please refer to the respective permit number for each application when submitting comments. All comments received, including names and addresses, will become part of the official administrative record and may be made available to the public.

FOR FURTHER INFORMATION CONTACT: Chief, Endangered Species Division, (505) 248-6922.

SUPPLEMENTARY INFORMATION:

Permit No. TE-086559

Applicant: Ricky Lee Jones, Tulsa, Oklahoma.

Applicant requests a new permit for research and recovery purposes to conduct presence/absence surveys for and translocate American burying beetles (Nicrophorus americanus) within Oklahoma.

Permit No. TE-087167

Applicant: Constance Dustin Becker, Zuni, New Mexico. Applicant requests a new permit for research and recovery purposes to conduct presence/absence surveys and nest monitoring for southwestern willow flycatchers (Empidonax traillii extimus) within New Mexico.

Permit No. TE-088876

Applicant: Mark Kaltenbach, Santa Fe, New Mexico. Applicant requests a new permit for research and recovery purposes to conduct presence/absence surveys and nest monitoring for southwestern willow flycatchers (Empidonax traillii extimus) within New Mexico.

Permit No. TE-088890

Applicant: Priscilla Titus, Tucson, Arizona. Applicant requests a new permit for research and recovery purposes to conduct presence/absence and monitoring surveys for the following species in Arizona, New Mexico, and Texas: Lesser long-nosed bat (Leptonycteris curasoae yerbabuenae), Hualapai Mexican vole (Microtus mexicanus hualpaiensis), cactus ferruginous pygmy-owl (Glaucidium brasilianum cactorum), southwestern willow flycatcher (Empidonax traillii extimus), Yuma clapper rail (Rallus longirostris yumanensis), Sonoran tiger salamander (Ambystoma tigrinum stebbinsi), desert pupfish (Cyprinodon macularius), and Gila topminnow (Poeciliopsis occidentalis).

Permit No. TE-021881

Applicant: TRC Co., Inc., Albuquerque, New Mexico. Applicant requests an amendment to an existing permit to allow presence/absence surveys for the following species within New Mexico: black-footed ferret (Mustela nigripes), interior least tern (Sterna antillarum), and northern aplomado falcon (Falco femoralis septentrionalis).

Permit No. TE-814841

Applicant: Desert Botanical Garden, Phoenix, Arizona. Applicant requests an amendment to an existing permit to allow collection of Sacramento prickly-poppy (Argemone pliecantha var. pinnatisecta) within New Mexico and Arizona cliffrose (Purshia subintegra) within Arizona.

Authority: 16 U.S.C. 1531, et seq.

Dated: June 4, 2004.
Stuart Leon,
Acting Assistant Regional Director, Ecological Services, Region 2, Albuquerque, New Mexico.

[FR Doc. 04-13706 Filed 6-16-04; 8:45 am]

BILLING CODE 4310-55-P